DEPARTMENT OF TRANSPORTATION

Federal Motor Carrier Safety Administration

49 CFR Parts 370, 371, 373, 375, 376, 378, 379, 380, 382, 387, 390, 391, 395, 396, and 398

[Docket No. FMCSA-2012-0376]

RIN 2126-AB47

Electronic Documents and Signatures; Correction

AGENCY: Federal Motor Carrier Safety Administration (FMCSA), DOT.

ACTION: Final rule; correction and withdrawal of regulatory guidance.

SUMMARY: FMCSA corrects the electronic documents and signatures final rule published on April 16, 2018 that amended FMCSA regulations to allow the use of electronic records and signatures to satisfy FMCSA's regulatory requirements. This document corrects an amendatory instruction, removes two extra commas at the end of two phrases, and adds “of this section” to a cross reference in a paragraph. Finally, FMCSA rescinds its January 4, 2011, interpretations and regulatory guidance.

DATES: This correction is effective June 15, 2018. As of June 15, 2018, the document published at 76 FR 411 on Jan.4, 2011, is withdrawn.

FOR FURTHER INFORMATION CONTACT: Mr. David Miller, Office of Policy, Federal Motor Carrier Safety Administration, 1200 New Jersey Avenue SE, Washington, DC 20590-0001, (202) 366-5011, david.miller@dot.gov.

If you have questions on viewing or submitting material to the docket, contact Docket Services, telephone (202) 366-9826.

SUPPLEMENTARY INFORMATION: In FR Doc. 2018-07749, appearing on page 16210 in the Federal Register of Monday, April 16, 2018, the following corrections are made:

1. In the preamble, on page 16218, in the second column, under the heading “49 CFR 390.31,” following the sentence that reads “The requirement that the Agency be able to inspect records applies regardless of whether the copy is in paper or electronic form”, add a new paragraph to read as follows: “In consideration of the final rule on electronic documents and signatures, the Agency rescinds Questions 1 through 13 (76 FR 411, Jan.4, 2011) (https://www.fmcsa.dot.gov/regulations/title49/section/390.31).”

§ 376.12 [Corrected]

2. On page 16224, in the third column, in amendment 17, the instruction “Amend § 376.12 by revising paragraphs (f), (g), and (l) to read as follows:” is corrected to read “Amend § 376.12 by revising the section heading and paragraphs (f), (g), and (l) to read as follows:”.

§ 390.5 [Corrected]

3. On page 16226, in the third column, in § 390.5, the phrase “1701-1710,,” is corrected to read “1701-1710,”.

§ 390.5T [Corrected]

4. On page 16226, in the third column, in § 390.5T, the phrase “1701-1710,,” is corrected to read “1701-1710,”.

§ 395.15 [Corrected]

5. On page 16227, in the second column, in § 395.15(b)(5) the phrase “in paragraph (b)(4)” is corrected to read “in paragraph (b)(4) of this section”.

Issued under the authority of delegation in 49 CFR 1.87: May 9, 2018.
Larry W. Minor,
Associate Administrator for Policy.

[FR Doc. 2018-11127 Filed 5-24-18; 8:45 am]

BILLING CODE 4910-EX-P